DEPARTMENT OF THE INTERIOR

Environmental Impact Statement; Notice of Availability

AGENCY: National Park Service, Interior.

ACTION: Availability of Draft Environmental Impact Statement / Oil and Gas Management Plan, (DEIS/O&GMP), Lake Meredith National Recreation Area and Alibates Flint Quarries National Monument, Texas.

SUMMARY: Pursuant to section 102(2)(C) of the National Environmental Policy Act of 1969, the National Park Service announces the availability of a Draft Environmental Impact Statement and Oil and Gas Management Plan (DEIS/O&GMP) for Lake Meredith National Recreation Area and Alibates Flint Quarries National Monument, Texas.

DATES: Comments on the document must be received within 60 days following the U.S. Environmental Protection Agency publication of a Notice of Availability on the DEIS/O&BMP in the Federal Register. If any public meetings are held concerning the DEIS/O&GMP, they will be announced at a later date.

Comments: Written comments on the DEIS/O&GMP should be sent to the Superintendent, Lake Meredith National Recreation Area and Alibates Flint Quarries National Monument, P.O. Box 1460, Fritch, Texas 79036 or submitted via the Internet to: paul_eubank@nps.gov. Internet comments should be sent with a return receipt requested, as an ASCII file avoiding the use of special characters and any form of encryption, and include “Attn: (any identifying names or codes)” and name and return address. If a confirmation that the comment has been received is not returned, contact the NPS Office of Minerals/Oil and Gas Support, telephone 505-988-6095. Comments may also be delivered to NPS park headquarters at 419 E. Broadway, in Fritch, Texas. All comments, including names and addresses of respondents, will be made available for public review during regular business hours. Individual respondents may request that the NPS withhold their name and home address from the record, which will be honored to the extent allowable by law. In order to withhold a name and/or address, it must be stated prominently at the beginning of the written comment. Anonymous comments will not be considered. We will make all submissions from organizations or businesses, and from individuals identifying themselves as representatives or officials of organizations or businesses, available for public inspection in their entirety. All comments received on the DEIS/O&GMP will become part of the public record.

ADDRESSES: Copies of the DEIS/O&GMP are available from the Superintendent, Lake Meredith National Recreation Area and Alibates Flint Quarries National Monument, P.O. Box 1460, Fritch, Texas 79036, telephone 806-857-3151. The DEIS/O&GMP is also available on the parks' websites at: http://www.nps.gov/lamr and http://www.nps.gov/alfl/. Public reading copies of the DEIS/O&GMP are available for public review at the following locations:

Office of the Superintendent, Lake Meredith National Recreation Area and Alibates Flint Quarries National Monument, 419 E. Broadway, Fritch, TX 79036, Telephone: 806-857-3151

Office of Minerals/Oil and Gas Support, Intermountain Support Office—Santa Fe, National Park Service, 1100 Old Santa Fe Trail, Santa Fe, NM 87501, Telephone: 505-988-6095

Planning and Environmental Quality, Intermountain Support Office—Denver National Park Service, 12795 W. Alameda Parkway, Lakewood, CO 80228, Telephone: 303-969-2851

Office of Public Affairs, National Park Service, 18th and C Streets NW, Washington, DC 20240, Telephone: 202-208-6843

SUPPLEMENTARY INFORMATION: When the parks were created, surface ownership within the two areas was acquired by the U.S. Government. Private entities or the State of Texas retained the subsurface mineral interests on these lands. Thus, the federal government does not own any of the subsurface oil and gas rights in the parks, yet the National Park Service is required by its laws, policies and regulations to protect these parks from any actions, including oil and gas operations, that may adversely impact or impair park resources and values.

The DEIS/O&GMP analyzes three alternatives that could be implemented over the next 15-20 years for managing existing and anticipated oil and gas operations associated with the exercise of nonfederal oil and gas interests underlying the parks, and existing transpark oil and gas pipelines and activities in their associated rights-of-way. This planning effort will assist the park staff protect park resources, visitor use and experience, and human health and safety, and prevent impairment to park resources and values, while still recognizing all rights associated with outstanding nonfederal oil and gas interests.

Alternative A, No Action/Current Management, is required by the National Environmental Policy Act and describes the continued management of oil and gas operations in the parks under current legal and policy requirements. Alternative B emphasizes the development of a programmatic oil and gas management plan that would guide nonfederal oil and gas operations in the parks. Special Management Areas (SMAs) would be formally designated in the parks where resources and values would be particularly susceptible to adverse impacts from oil and gas operations, and operating stipulations specific to each SMA would be applied. Alternative B is the preferred alternative, and the environmentally preferred alternative. Alternative C emphasizes avoiding new surface disturbance and its associated impacts throughout the parks. New drilling and production operations would be confined to the original footprint of 121 current production sites and could not be located in SMAs where the No Surface Use operating stipulation would be proposed under Alternative B.

Impacts are analyzed on the following topics: nonfederal oil and gas development, adjacent landowners and uses, air quality, geologic resources, paleontological resources, floodplains and water resources, vegetation, wetlands, fish and wildlife, threatened and endangered species, cultural resources, and visitor use and experience.

FOR FURTHER INFORMATION CONTACT: Superintendent, Lake Meredith National Recreation Area and Alibates Flint Quarries National Monument, at the above address and telephone number.

Dated: May 1, 2001.
Jack Nickels,
Acting Director, Intermountain Region, National Park Service.

[FR Doc. 01-13962 Filed 6-1-01; 8:45 am]

BILLING CODE 4310-70-P